DEPARTMENT OF COMMERCE

International Trade Administration

[A-449-804; A-455-803; A-560-811; A-570-860; A-822-804; A-823-809; A-841-804]

Steel Concrete Reinforcing Bars From Belarus, Indonesia, Latvia, Moldova, Poland, the People's Republic of China, and Ukraine: Continuation of Antidumping Duty Orders

AGENCY: Import Administration, International Trade Administration, Department of Commerce.

SUMMARY: As a result of the determinations by the Department of Commerce (“Department”) that revocation of the antidumping duty orders ¹ on steel concrete reinforcing bars from Belarus, Indonesia, Latvia, Moldova, Poland, the People's Republic of China (“PRC”), and Ukraine would likely lead to continuation or recurrence of dumping, and by the International Trade Commission (“ITC”) that revocation of the antidumping duty orders would likely lead to continuation or recurrence of material injury to an industry in the United States, the Department is publishing this notice of the continuation of the antidumping duty orders.

¹ See Antidumping Duty Orders: Steel Concrete Reinforcing Bars From Belarus, Indonesia, Latvia, Moldova, People's Republic of China, Poland, Republic of Korea and Ukraine, 66 FR 46777 (September 7, 2001). On August 9, 2007, the Department revoked the antidumping duty order on steel concrete reinforcing bars from the Republic of Korea. See Steel Concrete Reinforcing Bars from South Korea: Revocation of Antidumping Duty Order, 72 FR 44830 (August 9, 2007).

DATES: Effective Date: July 22, 2013.

FOR FURTHER INFORMATION CONTACT: Nancy Decker, AD/CVD Operations, Office 1, Import Administration, U.S. Department of Commerce, 14th Street and Constitution Avenue NW., Washington, DC 20230; telephone (202) 482-0916.

SUPPLEMENTARY INFORMATION:

Background

On July 2, 2012, the Department and the ITC initiated the second sunset reviews of the antidumping duty orders on steel concrete reinforcing bars from Belarus, Indonesia, Latvia, Moldova, Poland, the PRC, and Ukraine, pursuant to section 751(c) of the Tariff Act of 1930, as amended (“the Act”).² In these sunset reviews, the Department determined that revocation of the antidumping duty orders on steel concrete reinforcing bars from Belarus, Indonesia, Latvia, Moldova, Poland, the PRC, and Ukraine would be likely to lead to continuation or recurrence of dumping and notified the ITC of the magnitude of the margin likely to prevail should the orders be revoked.³

² See Initiation of Five-Year (“Sunset”) Reviews, 77 FR 39218, 39219 (July 2, 2012).

³ See Steel Concrete Reinforcing Bars From Belarus, Indonesia, Latvia, Moldova, Poland, People's Republic of China and Ukraine: Final Results of the Expedited Second Sunset Reviews of the Antidumping Duty Orders; 77 FR 70140 (November 23, 2012).

On July 9, 2013, pursuant to section 752(a) of the Act, the ITC published its determination that revocation of the antidumping duty orders on steel concrete reinforcing bars from Belarus, Indonesia, Latvia, Moldova, Poland, the PRC, and Ukraine would likely lead to continuation or recurrence of material injury to an industry in the United States within a reasonably foreseeable time.⁴

⁴ See Steel Concrete Reinforcing Bar From Belarus, China, Indonesia, Latvia, Moldova, Poland, and Ukraine, 78 FR 41079 (July 9, 2013).

Scope of the Orders

The product covered by the orders is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating.

Although the HTSUS item numbers are provided for convenience and customs purposes, the written description of the scope of the orders remains dispositive.

Continuation of the Orders

As a result of the determinations by the Department and the ITC that revocation of these orders would likely lead to continuation or recurrence of dumping and material injury to an industry in the United States, pursuant to section 751(d)(2) of the Act, the Department hereby orders the continuation of the antidumping duty orders on steel concrete reinforcing bars from Belarus, Indonesia, Latvia, Moldova, Poland, the PRC, and Ukraine.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuations.

These five-year sunset reviews and notice are in accordance with section 751(c) of the Act and published pursuant to section 777(i)(1) of the Act.

Dated: July 15, 2013.
Paul Piquado,
Assistant Secretary for Import Administration.

[FR Doc. 2013-17538 Filed 7-19-13; 8:45 am]

BILLING CODE 3510-DS-P